NATIONAL AERONAUTICS AND SPACE ADMINISTRATION

[NASA Document No: NASA-24-034; NASA Docket No: NASA-2024-0001]

Name of Information Collection: Generic Clearance for the NASA Office of STEM Engagement Performance Measurement and Evaluation (Testing)

AGENCY: National Aeronautics and Space Administration (NASA).

ACTION: Notice of information collection.

SUMMARY: NASA, as part of its continuing effort to reduce paperwork and respondent burden, invites the general public and other Federal agencies to take this opportunity to comment on proposed and/or continuing information collections, as required by the Paperwork Reduction Act of 1995 (PRA).

DATES: Comments are due by July 22, 2024.

ADDRESSES: Written comments and recommendations for this information collection should be sent within 30 days of publication of this notice at http://www.regulations.gov and search for NASA Docket No: NASA-2024-0001.

FOR FURTHER INFORMATION CONTACT: Requests for additional information or copies of the information collection instrument(s) and instructions should be directed to NASA PRA Clearance Officer, Stayce Hoult, NASA Headquarters, 300 E Street SW, JC0000, Washington, DC 20546, phone 256-714-8575, or email hq-ocio-pra-program@mail.nasa.gov.

SUPPLEMENTARY INFORMATION:

I. Abstract

NASA is committed to effectively performing the Agency's communication function in accordance with the Space Act Section 203 (a)(3) to “provide for the widest practicable and appropriate dissemination of information concerning its activities and the results thereof,” and to enhance public understanding of, and participation in, the nation's aeronautical and space program in accordance with the NASA Strategic Plan. The NASA Office of STEM Engagement (OSTEM) administers the agency's national stem engagement and education activities in support of the Space Act, including the performance assessment and evaluation of OSTEM projects, programs and NASA STEM engagement investments. This generic clearance will allow the NASA OSTEM to continue to test and pilot with subject matter experts, secondary students, higher education students, educators, and interested parties new and existing information collection forms and assessment instruments for the purposes of improvement and establishing validity and reliability characteristics of the forms and instruments. Existing information collections include the NASA Student STEM Inventory (Grades 4-12), NASA OSTEM Educator Professional Development (EPD) Pre- and Post-Workshop Learning Assessment (Surveys), NASA Internship Program Evaluation (Internship Retrospective Survey, Internship Experience Survey, and Semi-Structured Focus Group Protocol), NASA CONNECTS Evaluation Survey and Focus Group Protocol, MUREP Outcome Student Participant and Principal Investigator Focus Group Protocols. Forms and instruments to be tested include program application forms, customer satisfaction questionnaires, focus group protocols, and project activity survey instruments. Methodological testing will include focus group discussions, pilot surveys to test new individual question items as well as the complete form and instrument. In addition, test-retest and similar protocols will be used to determine reliability characteristics of the forms and instruments. Methodological testing will assure that forms and instruments accurately and consistently collect and measure what they are intended to measure and that data collection items are interpreted precisely and consistently, all towards the goal of accurate Agency reporting while improving the execution of NASA STEM Engagement activities.

II. Methods of Collection

Electronic, paper, and focus group interviews.

III. Data

Title: Generic Clearance for the NASA Office of Education Performance Measurement and Evaluation (Testing).

OMB Number: 2700-0159.

Type of review: Renewal of an existing collection.

Affected Public: Individuals and Households.

Estimated Annual Number of Activities: 10.

Estimated Number of Respondents per Activity: 2,800.

Annual Responses: 1.

Estimated Time per Response: 15 minutes.

Estimated Total Annual Burden Hours: 7,000.

IV. Request for Comments

Comments are invited on: (1) Whether the proposed collection of information is necessary for the proper performance of the functions of NASA, including whether the information collected has practical utility; (2) the accuracy of NASA's estimate of the burden (including hours and cost) of the proposed collection of information; (3) ways to enhance the quality, utility, and clarity of the information to be collected; and (4) ways to minimize the burden of the collection of information on respondents, including automated collection techniques or the use of other forms of information technology.

Comments submitted in response to this notice will be summarized and included in the request for OMB approval of this information collection. They will also become a matter of public record.

Stayce Hoult,
NASA PRA Clearance Officer.

[FR Doc. 2024-11204 Filed 5-21-24; 8:45 am]

BILLING CODE 7510-13-P